DEPARTMENT OF HOMELAND SECURITY

U.S. Customs and Border Protection

Notice of Revocation of Customs Broker License

AGENCY: U.S. Customs and Border Protection, Department of Homeland Security.

ACTION: Notice of revocation of a customs broker license.

SUMMARY: Notice is hereby given that a customs broker license is being revoked by operation of law.

SUPPLEMENTARY INFORMATION: Notice is hereby given that, pursuant to section 641 of the Tariff Act of 1930, as amended (19 U.S.C. 1641) and § 111.45(a) of title 19 of the Code of Federal Regulations (19 CFR 111.45(a)), the following customs broker license is revoked by operation of law.

Company name | License No. | Port of issuance
Celco Customs Service Co. Inc | 22167 | Los Angeles

Dated: August 2, 2013.
Richard F. DiNucci,
Deputy Assistant Commissioner, Office of International Trade.

[FR Doc. 2013-19129 Filed 8-7-13; 8:45 am]

BILLING CODE P